SMALL BUSINESS ADMINISTRATION

[Disaster Declaration #12140 and #12141]

West Virginia Disaster Number WV-00018

AGENCY: U.S. Small Business Administration.

ACTION: Amendment 1.

SUMMARY: This is an amendment of the Presidential declaration of a major disaster for Public Assistance Only for the State of WEST VIRGINIA (FEMA-1903-DR), dated 04/23/2010.

Incident: Severe Winter Storms and Snowstorms.

Incident Period: 02/05/2010 through 02/11/2010.

DATES: Effective Date: 07/07/2010.

Physical Loan Application Deadline Date: 06/22/2010.

Economic Injury (EIDL) Loan Application Deadline Date: 01/24/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of WEST VIRGINIA, dated 04/23/2010, is hereby amended to include the following areas as adversely affected by the disaster.

Primary Counties: Grant, Mineral, Monongalia.

All other information in the original declaration remains unchanged.

(Catalog of Federal Domestic Assistance Numbers 59002 and 59008)

James E. Rivera,
Associate Administrator for Disaster Assistance.

[FR Doc. 2010-17260 Filed 7-14-10; 8:45 am]

BILLING CODE 8025-01-P